DEPARTMENT OF COMMERCE

National Oceanic and Atmospheric Administration

RIN 0648-XW49

Mid-Atlantic Fishery Management Council (MAFMC); Public Meetings

AGENCY: National Marine Fisheries Service (NMFS), National Oceanic and

Atmospheric Administration (NOAA), Commerce.

ACTION: Notice of public meetings.

SUMMARY: The Mid-Atlantic Fishery Management Council (Council) and its Surfclam, Ocean Quahog and Tilefish Committee, its Research Set-Aside Committee (RSA), its Squid, Mackerel, and Butterfish (SMB) Committee, its Ecosystems and Ocean Planning Committee, and its Executive Committee

will hold public meetings.

DATES: The meetings will be held Tuesday, June 8, 2010 through Thursday, June 10, 2010. See SUPPLEMENTARY INFORMATION for specific dates and times.

ADDRESSES: The meetings will be held at the Radisson Martinique on Broadway, 49 West 32nd Street, New York, New York 10001; telephone: (212) 736-3800.

Council address: Mid-Atlantic Fishery Management Council, 800 N. State St., Suite 201, Dover, DE 19901-3910; telephone: (302) 674-2331.

FOR FURTHER INFORMATION CONTACT: Daniel T. Furlong, Executive Director, Mid-Atlantic Fishery Management Council; telephone: (302) 674-2331, ext. 255.

SUPPLEMENTARY INFORMATION:

Tuesday, June 8, 2010

8:30 a.m. until 11 a.m. - The Surfclam, Ocean Quahog, and Tilefish Committee will meet with its Advisors.

11 a.m. until 12:30 p.m. - The RSA Committee will meet.

2 p.m. until 5 p.m. - The Squid, Mackerel, and Butterfish Committee will meet with its Advisors.

Wednesday, June 9, 2010

8 a.m. until 9:30 a.m. - the Ecosystems and Ocean Planning Committee will meet.

9:30 a.m. - The Council will convene at 9:30 a.m.

9:30 a.m. until 10 a.m. - The Council will receive a presentation regarding the outcome of the recent Transboundary Resource Assessment Committee's (TRAC) review of the status of Atlantic mackerel.

10 a.m. until 12 noon - The Council Business Session will meet.

1:30 p.m. until 3 p.m. - Surfclam and Ocean Quahog specification setting will be held for 2011-13.

3 p.m. until 4:30 p.m. - Squid, Mackerel, and Butterfish specification setting will be held for 2011.

4:30 p.m. until 5:30 p.m. - The Executive Committee will meet.

Thursday, June 10, 2010

8:30 a.m. - The Council will convene.

8:30 a.m. until 11 a.m. - The Council will review public comments and discuss the Omnibus ACL/AM Amendment (Annual Catch Limits / Accountability Measures).

11 a.m. until 12:30 p.m. - The Council will then receive Committee Reports and address any continuing and new business.

Agenda items by day for the Council's Committees and the Council itself are:

On Tuesday, June 8 - the Surfclam, Ocean Quahog and Tilefish Committee with Advisors will review the SSC and staff recommendations and advice for 2011-13 quota specifications and associated management measure for surfclams and ocean quahogs; develop 2011-13 quota specifications and associated management measures for Council consideration and action; and receive a presentation on Climate Change and Responses in a Coupled Marine System; the Mid-Atlantic surfclam (MASC) model is being developed as part of a multi-disciplinary study looking at adaptation to climate change in a human-natural coupled system. The RSA Committee will review the Mid-Atlantic RSA program performance and develop a mission statement to emphasize ways to improve program coordination with other cooperative research efforts. The Squid, Mackerel, and Butterfish Committee with Advisors will review the SSC and Monitoring Committee's recommendations and SSC advice for 2011 quota levels and associated management measures; develop 2011 quota specifications and associated management measures for Council consideration and action; address Amendment 11's outstanding issue: cap capacity via a mackerel limited entry system; and, ratify earlier approved purposes / actions included in Amendment 11.

On Wednesday, June 9 - the Ecosystems and Ocean Planning Committee will receive an annual presentation regarding NMFS NERO's habitat initiatives and programs. The Council will convene to receive a presentation on the outcome of the recent TRAC Assessment of Atlantic mackerel, conduct its Business Session, receive Organizational and Council Liaison Reports, the Executive Director's Report and receive an update on the status of Council FMPs. The Council will review the Surfclam and Ocean Quahog Committee's recommendations for 2011-13 quota specifications and associated management measures, and develop and adopt 2011-13 quota specifications and associated management measures for surfclams and ocean quahogs. The Council will review the SMB Committee's recommendations for 2011 quota specifications and associated management measures, and develop and adopt 2011 quota specifications and associated management measures for Atlantic mackerel, squids, and butterfish. The Executive Committee will review highlights of the May Northeast Regional Coordinating Council (NRCC) meeting; review highlights of the May Council Coordination Committee (CCC) meeting; discuss the framework and the process to move forward with the “Visioning” project suggested at the end of the Council's March Catch Share Workshop; review and discuss Advisory Panel input in the specification setting process; and, discuss the status of the proposed surfclam excessive share analysis.

On Thursday, June 10 - the Council will convene to review Public Hearing oral comments and written comments on the Omnibus ACL / AM Amendment; review the Tilefish trip analysis; address SMB Amendment 11 allocation action and implications for ACLs / AMs; address the means to make future modifications to the ACL / AM Amendment; discuss the integration of the ACL / AM Amendment with Atlantic State Marine Fisheries Commission regarding annual specification setting processes; and, discuss the mechanics of how the August specification setting process will be actualized. Following this action, the Council will receive Committee Reports and discuss any continuing and new business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 13, 2010.
Tracey L. Thompson,
Acting Director, Office of Sustainable Fisheries, National Marine Fisheries Service.

[FR Doc. 2010-11895 Filed 5-18-10; 8:45 am]

BILLING CODE 3510-22-S